DEPARTMENT OF COMMERCE

Foreign-Trade Zones Board

[Docket T-3-2005]

Foreign-trade Zone 77 -- Memphis, Tennessee, Application for Temporary/interim Manufacturing Authority, Brother Industries (U.S.A.) Inc., (Manufacture/Refurbish Toner Cartridges), Bartlett, Tennessee

An application has been submitted to the Executive Secretary of the Foreign-Trade Zones Board (the Board) by the City of Memphis and Shelby County, Division of Planning and Economic Development, grantee of FTZ 77, requesting temporary/interim manufacturing (T/IM) authority within Subzone 77B at the Brother Industries (U.S.A.) Inc. plant located in Bartlett, Tennessee. The application was filed on September 29, 2005.

The Brother facility (260 employees; annual capacity for 120,000 toner cartridges) is located within Subzone 77B. Under T/IM procedures, the company has requested authority to manufacture, remanufacture, charge and recharge toner cartridges (HTS 8472.90 and 8473.30; these products enter the United States duty free). The company may source the following items from abroad for manufacturing of one or both of the finished products under T/IM authority, as delineated in Brother's application: toner (HTS 3707.90); toner caps (3923.50); collars, guards, and covers (3926.90); seals (5911.90); labels (4821.10); developer rollers (9009.99); bearings (8483.30); springs (7320.20); gears (8483.90); retaining rings (7318.29); washers (7318.22); and “lower film” (3919.90). Duty rates on these inputs range from duty-free to 6.5%. T/IM authority could be granted for a period of up to two years. Brother has also submitted a request for permanent FTZ manufacturing authority (for which Board filing is pending), which includes five additional inputs.

FTZ procedures would allow Brother to elect the finished-product duty rates for the imported production inputs listed above. The company indicates that it would also realize logistical/paperwork savings under FTZ procedures.Public comment is invited from interested parties. Submissions shall be addressed to the Board's Executive Secretary at one of the following addresses:

1. Submissions Via Express/Package Delivery Services: Foreign-Trade-Zones Board, U.S. Department of Commerce, Franklin Court Building - Suite 4100W, 1099 14th St. NW, Washington, D.C. 20005; or

2. Submissions Via the U.S. Postal Service: Foreign-Trade-Zones Board, U.S. Department of Commerce, FCB - Suite 4100W, 1401 Constitution Ave. NW, Washington, D.C. 20230.

The closing period for their receipt is November 7, 2005.

A copy of the application will be available for public inspection at the Office of the Foreign-Trade Zones Board's Executive Secretary at the first address listed above.

Dated: September 29, 2005.
Dennis Puccinelli,
Executive Secretary.

[FR Doc. 05-20116 Filed 10-5-05; 8:45 am]

BILLING CODE 3510-DS-S